DEPARTMENT OF ENERGY

Federal Energy Regulatory Commission

Combined Notice of Filings #2

November 15, 2010.

Take notice that the Commission received the following electric rate filings:

Docket Numbers: ER10-566-001; ER10-566-002.

Applicants: ArcLight Energy Marketing, LLC, Oak Creek Wind Power, LLC, Coso Geothermal Power Holdings, LLC.

Description: Supplemental to Updated Market Power Analysis for the Southwest Region of Coso Geothermal Power Holdings, LLC.

Filed Date: 11/12/2010.

Accession Number: 20101112-5264.

Comment Date: 5 p.m. Eastern Time on Friday, December 03, 2010.

Docket Numbers: ER11-2082-000.

Applicants: South Carolina Electric & Gas Transmission.

Description: South Carolina Electric & Gas Transmission submits tariff filing per 35: Compliance filing clean up after initial baseline filing to be effective 11/11/2010.

Filed Date: 11/12/2010.

Accession Number: 20101112-5006.

Comment Date: 5 p.m. Eastern Time on Friday, December 03, 2010.

Docket Numbers: ER11-2083-000.

Applicants: Duke Energy Fayette II, LLC.

Description: Duke Energy Fayette II, LLC submits tariff filing per 35.15: Cancel Tariff Database to be effective 1/10/2011.

Filed Date: 11/12/2010.

Accession Number: 20101112-5012.

Comment Date: 5 p.m. Eastern Time on Friday, December 03, 2010.

Docket Numbers: ER11-2084-000.

Applicants: Midwest Independent Transmission System Operator, Inc.

Description: Midwest Independent Transmission System Operator, Inc. submits tariff filing per 35.13(a)(2)(iii): Module B—Facilities Study to be effective 1/12/2011.

Filed Date: 11/12/2010.

Accession Number: 20101112-5119.

Comment Date: 5 p.m. Eastern Time on Friday, December 03, 2010.

Docket Numbers: ER11-2086-000.

Applicants: California Independent System Operator Corporation.

Description: Petition of the California Independent System Operator Corporation for Approval of Disposition of Proceeds of Penalty Assessments.

Filed Date: 11/12/2010.

Accession Number: 20101112-5145.

Comment Date: 5 p.m. Eastern Time on Friday, December 3, 2010.

Docket Numbers: ER11-2086-000.

Applicants: California Independent System Operator Corporation.

Description: Petition of the California Independent System Operator Corporation for Approval of Disposition of Proceeds of Penalty Assessments.

Filed Date: 11/12/2010.

Accession Number: 20101112-5146.

Comment Date: 5 p.m. Eastern Time on Friday, December 03, 2010.

Docket Numbers: ER11-2087-000.

Applicants: FC Landfill Energy, LLC.

Description: FC Landfill Energy, LLC submits tariff filing per 35.1: Baseline to be effective 11/12/2010.

Filed Date: 11/12/2010.

Accession Number: 20101112-5156.

Comment Date: 5 p.m. Eastern Time on Friday, December 03, 2010.

Docket Numbers: ER11-2088-000.

Applicants: Border Energy Electric Services, Inc.

Description: Border Energy Electric Services, Inc. submits tariff filing per 35.12: FERC Electric Tariff, Volume No. 1 to be effective 1/11/2011.

Filed Date: 11/12/2010.

Accession Number: 20101112-5157.

Comment Date: 5 p.m. Eastern Time on Friday, December 03, 2010.

Docket Numbers: ER11-2090-000.

Applicants: Duke Energy Hanging Rock II, LLC.

Description: Duke Energy Hanging Rock II, LLC submits tariff filing per 35.13(a)(2)(iii): Reactive Power Filing to be effective 12/31/9998.

Filed Date: 11/12/2010.

Accession Number: 20101112-5241.

Comment Date: 5 p.m. Eastern Time on Friday, December 3, 2010.

Docket Numbers: ER11-2091-000.

Applicants: Duke Energy Washington II, LLC.

Description: Duke Energy Washington II, LLC submits tariff filing per 35.13(a)(2)(iii): Reactive Power Filing to be effective 12/31/9998.

Filed Date: 11/12/2010.

Accession Number: 20101112-5242.

Comment Date: 5 p.m. Eastern Time on Friday, December 03, 2010

Docket Numbers: ER11-2092-000.

Applicants: Duke Energy Vermillion II, LLC.

Description: Duke Energy Vermillion II, LLC submits tariff filing per 35.13(a)(2)(iii): Reactive Power Filing to be effective 12/31/9998.

Filed Date: 11/12/2010.

Accession Number: 20101112-5243.

Comment Date: 5 p.m. Eastern Time on Friday, December 03, 2010.

Docket Numbers: ER11-2093-000.

Applicants: Ameren Illinois Company.

Description: Ameren Illinois Company submits tariff filing per 35.13(a)(2)(iii): Amendment B to Legacy Agreements to be effective 12/31/9998.

Filed Date: 11/12/2010.

Accession Number: 20101112-5245.

Comment Date: 5 p.m. Eastern Time on Friday, December 03, 2010.

Docket Numbers: ER11-2094-000.

Applicants: Duke Energy Lee II, LLC.

Description: Duke Energy Lee II, LLC submits tariff filing per 35.13(a)(2)(iii): Reactive Power Filing to be effective 12/31/9998.

Filed Date: 11/12/2010.

Accession Number: 20101112-5246.

Comment Date: 5 p.m. Eastern Time on Friday, December 03, 2010.

Docket Numbers: ER11-2095-000.

Applicants: Duke Energy Fayette II, LLC.

Description: Duke Energy Fayette II, LLC submits tariff filing per 35.13(a)(2)(iii): Reactive Power Filing to be effective 12/31/9998.

Filed Date: 11/12/2010.

Accession Number: 20101112-5247.

Comment Date: 5 p.m. Eastern Time on Friday, December 03, 2010.

Docket Numbers: ER11-2096-000.

Applicants: The Connecticut Light and Power Company.

Description: The Connecticut Light and Power Company submits tariff filing per 35.13(a)(2)(iii): Localized Costs Responsibility Agreement to be effective 1/1/2011.

Filed Date: 11/12/2010.

Accession Number: 20101112-5252.

Comment Date: 5 p.m. Eastern Time on Friday, December 3, 2010.

Docket Numbers: ER11-2097-000.

Applicants: Oklahoma Gas and Electric Company.

Description: Oklahoma Gas and Electric Company submits tariff filing per 35.1: OG&E Baseline Filing for WM-1 and WC-1 Tariff to be effective 11/12/2010.

Filed Date: 11/12/2010.

Accession Number: 20101112-5263.

Comment Date: 5 p.m. Eastern Time on Friday, December 03, 2010.

Docket Numbers: ER11-2098-000.

Applicants: Duke Energy Ohio, Inc.

Description: Duke Energy Ohio, Inc. submits tariff filing per 35.15: Reactive Tariff Cancellations to be effective 12/31/9998.

Filed Date: 11/12/2010.

Accession Number: 20101112-5265.

Comment Date: 5 p.m. Eastern Time on Friday, December 03, 2010.

Docket Numbers: ER11-2099-000.

Applicants: Public Service Company of New Hampshire.

Description: Public Service Company of New Hampshire submits tariff filing per 35.13(a)(2)(iii): Localized Costs Responsibility Agreement to be effective 1/1/2011.

Filed Date: 11/12/2010.

Accession Number: 20101112-5270

Comment Date: 5 p.m. Eastern Time on Friday, December 03, 2010.

Docket Numbers: ER11-2100-000.

Applicants: Western Massachusetts Electric Company.

Description: Western Massachusetts Electric Company submits tariff filing per 35.13(a)(2)(iii): Localized Costs Responsibility Agreement to be effective 1/1/2011.

Filed Date: 11/12/2010.

Accession Number: 20101112-5275.

Comment Date: 5 p.m. Eastern Time on Friday, December 03, 2010.

Docket Numbers: ER11-2101-000.

Applicants: Southwest Power Pool, Inc.

Description: Southwest Power Pool, Inc. submits tariff filing per 35.13(a)(2)(iii): Transmission Owner Definition Membership Agreement Revision to be effective 1/12/2011.

Filed Date: 11/12/2010.

Accession Number: 20101112-5292.

Comment Date: 5 p.m. Eastern Time on Friday, December 03, 2010.

Docket Numbers: ER11-2102-000.

Applicants: Oklahoma Gas and Electric Company.

Description: Oklahoma Gas and Electric Company submits tariff filing per 35.1: OG&E Baseline Filing for Cost Based Tariff to be effective 11/12/2010.

Filed Date: 11/12/2010.

Accession Number: 20101112-5296.

Comment Date: 5 p.m. Eastern Time on Friday, December 03, 2010.

Docket Numbers: ER11-2103-000.

Applicants: Southwest Power Pool, Inc.

Description: Southwest Power Pool, Inc. submits tariff filing per 35.13(a)(2)(iii): Transmission Owner Definition Tariff Revision to be effective 1/12/2011.

Filed Date: 11/12/2010.

Accession Number: 20101112-5300.

Comment Date: 5 p.m. Eastern Time on Friday, December 03, 2010.

Docket Numbers: ER11-2104-000.

Applicants: Midwest Independent Transmission System Operator, Inc.

Description: Midwest Independent Transmission System Operator, Inc. submits tariff filing per 35.13(a)(2)(iii): 11-12-10 AXTI Attachment O Filing to be effective 1/1/2011.

Filed Date: 11/12/2010.

Accession Number: 20101112-5304.

Comment Date: 5 p.m. Eastern Time on Friday, December 03, 2010.

Docket Numbers: ER11-2105-000.

Applicants: Oklahoma Gas and Electric Company.

Description: Oklahoma Gas and Electric Company submits tariff filing per 35.1: OG&E Baseline Filing for Market Based Tariff to be effective 11/12/2010.

Filed Date: 11/12/2010.

Accession Number: 20101112-5307.

Comment Date: 5 p.m. Eastern Time on Friday, December 03, 2010.

Docket Numbers: ER11-2106-000.

Applicants: California Independent System Operator Corporation.

Description: California Independent System Operator Corporation submits tariff filing per 35.13(a)(2)(iii): 2010-11-12 CAISO MSG Delay of Implementation Amendment to be effective 12/7/2010.

Filed Date: 11/12/2010.

Accession Number: 20101112-5319.

Comment Date: 5 p.m. Eastern Time on Monday, November 22, 2010.

Docket Numbers: ER11-2107-000.

Applicants: North Community Turbines LLC.

Description: North Community Turbines LLC submits tariff filing per 35.12: North Community Turbines LLC Market-Based Rate Application to be effective 1/1/2011.

Filed Date: 11/12/2010.

Accession Number: 20101112-5321.

Comment Date: 5 p.m. Eastern Time on Friday, December 03, 2010.

Docket Numbers: ER11-2108-000.

Applicants: North Wind Turbines LLC.

Description: North Wind Turbines LLC submits tariff filing per 35.12: North Wind Turbines LLC Market-Based Rate Application to be effective 1/1/2011.

Filed Date: 11/12/2010.

Accession Number: 20101112-5325.

Comment Date: 5 p.m. Eastern Time on Friday, December 03, 2010.

Docket Numbers: ER11-2109-000.

Applicants: Oklahoma Gas and Electric Company.

Description: Oklahoma Gas and Electric Company submits tariff filing per 35.1: OG&E Baseline Filing for Open Access Transmission Tariff to be effective 11/12/2010.

Filed Date: 11/12/2010.

Accession Number: 20101112-5328.

Comment Date: 5 p.m. Eastern Time on Friday, December 03, 2010.

Docket Numbers: ER11-2110-000.

Applicants: Allegheny Energy Supply Company LLC.

Description: Allegheny Energy Supply Company, LLC submits authorization to make wholesale power to its affiliate.

Filed Date: 11/12/2010.

Accession Number: 20101112-0204.

Comment Date: 5 p.m. Eastern Time on Friday, December 03, 2010.

Docket Numbers: ER11-2111-000.

Applicants: Allegheny Energy Supply Company LLC.

Description: Allegheny Energy Supply Company, LLC submits authorization to make wholesale power to its affiliate.

Filed Date: 11/12/2010.

Accession Number: 20101112-0203.

Comment Date: 5 p.m. Eastern Time on Friday, December 03, 2010.

Docket Numbers: ER11-2112-000.

Applicants: Blue Creek Wind Farm LLC.

Description: Blue Creek Wind Farm LLC submits tariff filing per 35.12: Initial Market-Based Rate Filing to be effective 1/14/2011.

Filed Date: 11/15/2010.

Accession Number: 20101115-5023.

Comment Date: 5 p.m. Eastern Time on Monday, December 06, 2010.

Docket Numbers: ER11-2112-000.

Applicants: Blue Creek Wind Farm LLC.

Description: Blue Creek Wind Farm LLC submits tariff filing per 35.12: Initial Market-Based Rate Filing to be effective 1/14/2011.

Filed Date: 11/15/2010.

Accession Number: 20101115-5023.

Comment Date: 5 p.m. Eastern Time on Monday, December 06, 2010.

Docket Numbers: ER11-2113-000.

Applicants: Midwest Independent Transmission System Operator, Inc.

Description: Midwest Independent Transmission System Operator, Inc. submits tariff filing per 35.13(a)(2)(iii): ITC Schedule 1 to be effective 1/1/2011.

Filed Date: 11/15/2010.

Accession Number: 20101115-5029.

Comment Date: 5 p.m. Eastern Time on Monday, December 06, 2010.

Docket Numbers: ER11-2114-000.

Applicants: Entergy Arkansas, Inc.

Description: Entergy Arkansas, Inc. submits tariff filing per 35.1: EAI Fourth Rev. Rate Schedule No. 94 to be effective 11/12/2010.

Filed Date: 11/15/2010.

Accession Number: 20101115-5043.

Comment Date: 5 p.m. Eastern Time on Monday, December 06, 2010.

Docket Numbers: ER11-2115-000.

Applicants: Entergy Gulf States Louisiana, L.L.C.

Description: Entergy Gulf States Louisiana, L.L.C. submits tariff filing per 35.1: EGSL First Rev. Rate Schedule No. 181 to be effective 11/12/2010.

Filed Date: 11/15/2010.

Accession Number: 20101115-5050.

Comment Date: 5 p.m. Eastern Time on Monday, December 06, 2010.

Docket Numbers: ER11-2116-000.

Applicants: Entergy Louisiana, LLC.

Description: Entergy Louisiana, LLC submits tariff filing per 35.1: ELL Fourth Rev. Rate Schedule No. 69 Baseline Filing to be effective 11/12/2010.

Filed Date: 11/15/2010.

Accession Number: 20101115-5051.

Comment Date: 5 p.m. Eastern Time on Monday, December 06, 2010.

Docket Numbers: ER11-2117-000.

Applicants: Entergy Mississippi, Inc.

Description: Entergy Mississippi, Inc. submits tariff filing per 35.1: EMI Fourth Rev. Rate Schedule No. 262 Baseline Filing to be effective 11/12/2010.

Filed Date: 11/15/2010.

Accession Number: 20101115-5052.

Comment Date: 5 p.m. Eastern Time on Monday, December 06, 2010.

Docket Numbers: ER11-2118-000.

Applicants: Entergy New Orleans, Inc.

Description: Entergy New Orleans, Inc. submits tariff filing per 35.1: ENOI Fourth Rev. Rate Schedule No. 8 Baseline Filing to be effective 11/12/2010.

Filed Date: 11/15/2010.

Accession Number: 20101115-5053.

Comment Date: 5 p.m. Eastern Time on Monday, December 06, 2010.

Docket Numbers: ER11-2119-000.

Applicants: Entergy Texas, Inc.

Description: Entergy Texas, Inc. submits tariff filing per 35.1: ETI First Rev. Rate Schedule No. 181 to be effective 11/12/2010.

Filed Date: 11/15/2010.

Accession Number: 20101115-5055.

Comment Date: 5 p.m. Eastern Time on Monday, December 06, 2010.

Docket Numbers: ER11-2120-000.

Applicants: Arizona Public Service Company.

Description: Arizona Public Service Company submits tariff filing per 35.13(a)(2)(iii): Rate Schedule No. 217, Amendments to Exhibit B to be effective 11/12/2010.

Filed Date: 11/15/2010.

Accession Number: 20101115-5088.

Comment Date: 5 p.m. Eastern Time on Monday, December 06, 2010.

Docket Numbers: ER11-2121-000.

Applicants: Arizona Public Service Company.

Description: Arizona Public Service Company submits tariff filing per 35.12: Service Schedule No. 306 to be effective 10/15/2010.

Filed Date: 11/15/2010.

Accession Number: 20101115-5089.

Comment Date: 5 p.m. Eastern Time on Monday, December 06, 2010.

Docket Numbers: ER11-2123-000.

Applicants: Midwest Independent Transmission System Operator, Inc.

Description: Midwest Independent Transmission System Operator, Inc. submits tariff filing per 35: Att. X & Mod E Compliance Filing to be effective 8/4/2010.

Filed Date: 11/15/2010.

Accession Number: 20101115-5102.

Comment Date: 5 p.m. Eastern Time on Monday, December 06, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please email FERCOnlineSupport@ferc.gov, or call (866) 208-3676 (toll free). For TTY, call (202) 502-8659.

Nathaniel J. Davis, Sr.,
Deputy Secretary.

[FR Doc. 2010-29324 Filed 11-19-10; 8:45 am]

BILLING CODE 6717-01-P